DEPARTMENT OF LABOR

Occupational Safety and Health Administration

[Docket No. OSHA-2009-0025]

UL LLC: Grant of Expansion of Recognition and Modification to the NRTL Program's List of Appropriate Test Standards

AGENCY: Occupational Safety and Health Administration (OSHA), Labor.

ACTION: Notice.

SUMMARY: In this notice, OSHA announces the final decision to expand the scope of recognition for UL LLC as a Nationally Recognized Testing Laboratory (NRTL). Additionally, OSHA announces the final decision to add eight test standards to the NRTL Program's list of appropriate test standards.

DATES: The expansion of the scope of recognition becomes effective on May 24, 2021.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov.

SUPPLEMENTARY INFORMATION:

I. Notice of Final Decision

OSHA hereby gives notice of the expansion of the scope of recognition of UL LLC (UL) as a NRTL. UL's expansion covers the addition of fourteen test standards to the NRTL scope of recognition, eight of which OSHA will add to the NRTL Program's List of Appropriate Test Standards.

OSHA recognition of a NRTL signifies that the organization meets the requirements specified in 29 CFR 1910.7. Recognition is an acknowledgment that the organization can perform independent safety testing and certification of the specific products covered within the scope of recognition and is not a delegation or grant of government authority. As a result of recognition, employers may use products properly approved by the NRTL to meet OSHA standards that require testing and certification of the products.

The agency processes applications by a NRTL for initial recognition and for an expansion or renewal of this recognition, following requirements in Appendix A to 29 CFR 1910.7. This appendix requires that the agency publish two notices in the Federal Register in processing an application. In the first notice, OSHA announces the application and provides a preliminary finding. In the second notice, the agency provides the final decision on the application. These notices set forth the NRTL's scope of recognition or modifications of that scope. OSHA maintains an informational web page for each NRTL, including UL, which details the NRTL's scope of recognition. These pages are available from the OSHA website at http://www.osha.gov/dts/otpca/nrtl/index.html.

UL submitted three applications to OSHA to expand their recognition as a NRTL. The first application was received on May 31, 2019 (OSHA-2009-0025-0032), the second application was received on July 2, 2019 (OSHA-2009-0025-0033), and the third application was received on April 15, 2020 (OSHA-2009-0025-0034). The expansion applications would add fourteen additional test standards to UL's NRTL recognition. OSHA staff performed a detailed analysis of the application packets and reviewed other pertinent information. OSHA did not perform any on-site reviews in relation to these applications.

OSHA published the preliminary notice announcing UL's expansion applications in the Federal Register on February 23, 2021 (86 FR 10998). The agency requested comments by March 10, 2021, but it received no comments in response to this notice. OSHA is now proceeding with this final notice to grant expansion of UL's scope of recognition and modification to the NRTL Program's List of Appropriate Test Standards.

To obtain or review copies of all public documents pertaining to UL's application, go to http://www.regulations.gov or contact the Docket Office, Occupational Safety and Health Administration, U.S. Department of Labor. Docket No. OSHA-2009-0025 contains all materials in the record concerning UL's recognition. Please note: Due to the COVID-19 pandemic, the Docket Office is closed to the public at this time but can be contacted at (202) 693-2350.

II. Final Decision and Order

OSHA staff examined UL's expansion applications, its capability to meet the requirements of the test standards, and other pertinent information. Based on its review of this evidence, OSHA finds that UL meets the requirements of 29 CFR 1910.7 for expansion of its recognition, subject to the limitations and conditions listed in this notice. OSHA, therefore, is proceeding with this final notice to grant UL's scope of recognition. OSHA limits the expansion of UL's recognition to testing and certification of products for demonstration of conformance to the test standards listed below in Table 1.

Table 1—List of Appropriate Test Standards for Inclusion in UL's NRTL Scope of Recognition
Test standard | Test standard title
UL 6141 | Standard for Wind Turbines Permitting Entry of Personnel.
UL 2524 | In-Building 2-Way Emergency Radio Communication Enhancement Systems.
UL 61010-2-020 | Electrical Equipment for Measurement, Control and Laboratory Use—Part 2-020: Particular Requirements for Laboratory Centrifuges.
UL 61010-2-81 | Standard for Safety Requirements for Electrical Equipment for Measurement, Control and Laboratory Use—Part 2-81: Particular Requirements for Automatic and Semi-Automatic Laboratory Equipment for Analysis and Other Purposes.
UL 61010-2-101 | Safety Requirements for Electrical Equipment for Measurement, Control and Laboratory Use—Part 2-101: Particular Requirements for In Vitro Diagnostic (IVD) Medical Equipment.
UL 9540 | Standard for Energy Storage Systems and Equipment.
* UL 498C | Flatiron and Appliance Plugs.
* UL 489B | Molded-Case Circuit Breakers, Molded-Case Switches, and Circuit-Breaker Enclosures For Use With Photovoltaic (PV) Systems.
* UL 60320-1 | Appliance Couplers for Household and Similar General Purposes—Part 1: General Requirements.
* UL 4248-19 | Fuseholders—Part 19: Photovoltaic Fuseholders.
* UL 2231-1 | Personnel Protection Systems for Electric Vehicle (EV) Supply Circuits: General Requirements.
* UL 2231-2 | Personnel Protection Systems for Electric Vehicle (EV) Supply Circuits: Particular Requirements for Protection Devices for Use in Charging Systems.
* UL 879A | LED Sign and Sign Refrofit Kits.
* UL 60335-2-89 | Household and Similar Electrical Appliances—Safety—Part 2-89: Particular Requirements for Commercial Refrigerating Appliances with an Incorporated or Remote Refrigerant Unit or Compressor.
* Represents the standards that OSHA is adding to the NRTL Program's List of Appropriate Test Standards.

In this notice, OSHA also announces the final decision to add eight new test standards to the NRTL Program's List of Appropriate Test Standards. Table 2 below lists the standards that are new to the NRTL Program. OSHA has determined that these test standards are appropriate test standards and will add them to the NRTL Program's List of Appropriate Test Standards.

Table 2—Standards OSHA Is Adding to the NRTL Program's List of Appropriate Test Standards
Test standard | Test standard title
UL 498C | Flatiron and Appliance Plugs.
UL 489B | Molded-Case Circuit Breakers, Molded-Case Switches, and Circuit-Breaker Enclosures For Use With Photovoltaic (PV) Systems.
UL 60320-1 | Appliance Couplers for Household and Similar General Purposes—Part 1: General Requirements.
UL 4248-19 | Fuseholders—Part 19: Photovoltaic Fuseholders.
UL 2231-1 | Personnel Protection Systems for Electric Vehicle (EV) Supply Circuits: General Requirements.
UL 2231-2 | Personnel Protection Systems for Electric Vehicle (EV) Supply Circuits: Particular Requirements for Protection Devices for Use in Charging Systems.
UL 879A | LED Sign and Sign Refrofit Kits.
UL 60335-2-89 | Household and Similar Electrical Appliances—Safety—Part 2-89: Particular Requirements for Commercial Refrigerating Appliances with an Incorporated or Remote Refrigerant Unit or Compressor.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standard listed above as an American National Standard. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, UL must abide by the following conditions of the recognition:

1. UL must inform OSHA as soon as possible, in writing, of any change of ownership, facilities, or key personnel, and of any major change in its operations as a NRTL, and provide details of the change(s);

2. UL must meet all the terms of its recognition and comply with all OSHA policies pertaining to this recognition; and

3. UL must continue to meet the requirements for recognition, including all previously published conditions on UL's scope of recognition, in all areas for which it has recognition.

Pursuant to the authority in 29 CFR 1910.7, OSHA hereby expands the scope of recognition of UL, subject to the limitations and conditions specified above. OSHA also adds eight standards to the NRTL Program's List of Appropriate Test Standards.

III. Authority and Signature

James S. Frederick, Acting Assistant Secretary of Labor for Occupational Safety and Health, 200 Constitution Avenue NW, Washington, DC 20210, authorized the preparation of this notice. Accordingly, the agency is issuing this notice pursuant to 29 U.S.C. 657(g)(2), Secretary of Labor's Order No. 8-2020 (85 FR 58393, September 18, 2020) and 29 CFR 1910.7.

Signed at Washington, DC, on May 13, 2021.
James S. Frederick,
Acting Assistant Secretary of Labor for Occupational Safety and Health.

[FR Doc. 2021-10872 Filed 5-21-21; 8:45 am]

BILLING CODE 4510-26-P